FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201202-010.

Agreement Name: Oakland MTO Agreement.

Parties: Everport Terminal Services Inc; SSA Terminals (Oakland) LLC; SSA Terminals, LLC; TraPac LLC.

Filing Party: Wayne Rohde, Cozen O'Connor.

Synopsis: The Amendment would revise the agreement to remove the parties' authority to discuss and agree on rates and charges. It would also update the address of Everport Terminal Services, Inc.

Proposed Effective Date: 3/18/2023.

Location: https://www2.fmc.gov/FMC.Agreements.Web/Public/AgreementHistory/3137.

Dated: February 3, 2023.
JoAnne O'Bryant,
Program Analyst.

[FR Doc. 2023-02645 Filed 2-7-23; 8:45 am]

BILLING CODE 6730-02-P